DEPARTMENT OF HEALTH AND HUMAN SERVICES

National Institutes of Health

Government-Owned Inventions; Availability for Licensing

AGENCY: National Institutes of Health, Public Health Service, HHS.

ACTION: Notice.

SUMMARY: The inventions listed below are owned by an agency of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

Species-Independent A3 Adenosine Receptor Agonists

Description of Technology: The A3 adenosine receptor (A3AR) subtype has been linked with helping protect the heart from ischemia, controlling inflammation, and regulating cell proliferation. Agonists of the human A3AR subtype have been described; however, they lack selectivity for the corresponding receptor of the mouse. This poses a problem for clinical development because animal model testing is important for pre-clinical validation of drug function. Consequently, a novel agonist was made that is selective for the mouse A3AR while retaining selectivity for the human receptor. This innovation should facilitate moving A3 agonists into the clinical phase of drug development with confidence.

This invention claims species-independent agonists of A3AR, specifically (N)-methanocarba adenine nucleosides. In addition, it describes pharmaceutical compositions comprising such nucleosides, and methods of use such as administering an effective amount to a mammal.

Applications: cardiac arrhythmias or ischemia; inflammation; stroke; diabetes; asthma; cancer.

Market: Heart disease and cancer are the leading causes of death for both women and men in the United States despite many advances in drug development. Hence, there is a need for drugs with unique mechanism of action. It is noteworthy that the first synthetic adenosine receptor agonist has recently been approved for use in humans.

Development Status: Research quantities of compounds have been synthesized and tested for receptor selectivity.

Inventors: Kenneth A. Jacobson and Artem Melman (NIDDK).

Publication: A Melman et al. Design of (N)-methanocarba adenosine 5′-uronamides as species-independent A3 receptor-selective agonists. Bioorg Med Chem Lett. 2008 May 1;18(9):2813-2819.

Patent Status: U.S. Provisional Application No. 61/040,985 filed 31 Mar 2008 (HHS Reference No. E-140-2008/0-US-01).

Licensing Status: Available for exclusive or non-exclusive licensing.

Licensing Contact: Norbert Pontzer, J.D., Ph.D.; 301-435-5502; pontzern@mail.nih.gov.

Fluorescent Cell Lines for Detection of DNA Damage

Description of Technology: The Enhanced Level of Genomic instability 1 (ELG1) protein suppresses genomic instability caused by DNA damage. Cell lines for studying human ELG1 (hELG1) have been established that stably express a fusion protein combining hELG1 and either Green Fluorescent Protein (GFP) or Cyan Fluorescent Protein (CFP). It has been shown that the fluorescent hELG1 is an excellent reporter for DNA damage within the cell, with increased hELG1 localization to the cell nucleus upon exposure to a genotoxin. Therefore, these cell lines may have utility as a screening tool to detect genotoxic agents.

Available for licensing are the RPE cell line (immortalized normal retinal pigment epithelial cells) stably expressing hELG1-CFP, and the U2OS cell line (human osteosarcoma cells) stably expressing hELG1-GFP.

Applications: High-sensitivity screening tool for genotoxic agents.

Inventor: Kyungjae Myung (NHGRI).

Relevant Publication: In preparation.

Patent Status: DHHS Reference No. E-108-2008/0—Research Tool. Patent protection is not being pursued for this technology.

Licensing Status: Available for non-exclusive licensing.

Licensing Contact: Tara L. Kirby, Ph.D.; 301-435-4426; tarak@mail.nih.gov.

Collaborative Research Opportunity: The National Chemical Genomics Center is seeking statements of capability or interest from parties interested in collaborative research to further develop, evaluate, or commercialize the assay for detection of genotoxic agents using RPE cell line having hELG1-CFP. Please contact Menghang Xia or James Inglese at mxia@mail.nih.gov or jinglese@mail.nih.gov for more information.

August 7, 2008.
Richard U. Rodriguez,
Director, Division of Technology Development and Transfer, Office of Technology Transfer, National Institutes of Health.

[FR Doc. E8-18984 Filed 8-19-08; 8:45 am]

BILLING CODE 4140-01-P